OFFICE OF THE UNITED STATES TRADE REPRESENTATIVE

Generalized System of Preferences (GSP): Notice of the Results of the 2007 Annual Product and Country Practices Reviews

AGENCY: Office of the United States Trade Representative.

ACTION: Notice.

SUMMARY: This notice announces: (1) The disposition of the product petitions accepted for review in the 2007 GSP Annual Product Review; (2) the results of the 2007 de minimis Waiver and Redesignation Reviews; (3) the results of the 2007 Competitive Need Limitation (CNL) Waiver Revocation Review; and (4) the results of the 2007 Country Practices Review.

FOR FURTHER INFORMATION CONTACT: Regina Teeter at the GSP Subcommittee, Office of the United States Trade Representative (USTR), Room F-220, 1724 F Street, NW., Washington, DC 20508. The telephone number is (202) 395-6971 and the facsimile number is (202) 395-9481.

The results of the 2007 GSP Annual Review are available for review by appointment in the USTR public reading room, 1724 F Street, NW., Washington, DC. Appointments may be made from 9:30 a.m.. to noon and 1 p.m. to 4 p.m., Monday through Friday, by calling (202) 395-6186. The results of the 2007 GSP Annual Review are also available at: http://www.ustr.gov/Trade_Development/Preference_Programs/GSP/GSP_2007_Annual_Review/Section_Index.html.

SUPPLEMENTARY INFORMATION: The GSP program provides for the duty-free importation of designated articles when imported from beneficiary developing countries. The GSP program is authorized by Title V of the Trade Act of 1974 (19 U.S.C. 2461, et seq.), as amended (the “Trade Act”), and is implemented in accordance with Executive Order 11888 of November 24, 1975, as modified by subsequent Executive Orders and Presidential Proclamations.

In the 2007 Annual Product Review, the Trade Policy Staff Committee reviewed petitions to change product coverage of the GSP. The disposition of the petitions considered in the 2007 GSP Annual Review is described in List I (Decisions on Petitions to Add Products to GSP Eligibility in the 2007 GSP Annual Review); List II (Decisions on Petitions to Remove Duty-Free Status from a Beneficiary Developing Country for a Product on the List of Eligible Articles for GSP); and List III (Decisions on CNL Waiver Petitions in the 2007 GSP Annual Review).

Certain articles for which a waiver of the application of section 503(c)(2)(A) of the 1974 Act was issued at least five years ago, but which are revoked pursuant to section 503(d)(5) are listed in List IV (Products for which a Waiver of the Application of section 503(c)(2)(A) of the 1974 Act is Revoked).

In the 2007 Product Review, the GSP Subcommittee evaluated the appraised import values of each GSP-eligible article in 2007 to determine whether an article from a GSP beneficiary developing country exceeded the GSP CNLs. De minimis waivers were granted to certain articles that exceeded the 50 percent import share CNL, but for which the aggregate value of the imports of that article was below the 2007 de minimis level of $18.5 million. List V (Products Receiving De Minimis Waivers) provides the list of the articles and the associated countries granted de minimis waivers. No eligible products were redesignated to GSP eligibility.

Articles that exceeded one of the GSP CNLs in 2007, and that are newly excluded from GSP eligibility for a specific country, are listed in List VI (Products Newly Subject to CNL Exclusions).

The disposition of petitions considered in the 2007 Country Practices Review is described in List VII (“Decisions on Country Practice Petitions in the 2007 GSP Annual Review”).

Marideth J. Sandler
Executive Director, Generalized System of Preferences (GSP) Program Chairman, GSP Subcommittee.

[FR Doc. E8-15156 Filed 7-2-08; 8:45 am]

BILLING CODE 3190-W8-P